DEPARTMENT OF ENERGY

Federal Energy Regulatory Commission

[Docket No. EL04-110-000, et al.]

New York Independent System Operator, Inc., et al.; Electric Rate and Corporate Filings

July 14, 2004.

The following filings have been made with the Commission. The filings are listed in ascending order within each docket classification.

1. New York Independent System Operator, Inc., Central Hudson Gas & Electric Corporation, LIPA, New York Power Authority, New York State Electric & Gas Corporation, Niagara Mohawk Power Corporation, Rochester Gas and Electric Corporation v. New York Independent System Operator, Inc., New York Independent System Operator, Inc.

[Docket No. EL04-110-000, Docket No. EL04-113-001, (Not Consolidated), Docket No. EL04-115-001, and Docket No. ER04-983-001]

Take notice that on July 13, 2004, the New York Independent System Operator, Inc. (NYISO) filed proposed revisions to its Market Administration and Control Area Services Tariff and Open Access Transmission Tariff under its authority to make unilateral tariff filings in “exigent circumstances.” NYISO states that the proposed tariff revisions are part of a comprehensive offer of settlement that the NYISO has submitted in the above-captioned proceedings.

The NYISO states that it has electronically served a copy of this filing on the official representative of each of its customers, on each participant in its stakeholder committees, and on the New York State Public Service Commission.

Comment Date: July 20, 2004.

2. Perryville Energy Partners, L.L.C. and Entergy Services, Inc. on Behalf of Entergy Louisiana, Inc.

[Docket No. EL04-118-000]

Take notice that on July 12, 2004, Perryville Energy Partners, L.L.C. (PEP) and Entergy Services, Inc., on behalf of Entergy Louisiana, Inc. +, filed with the Federal Energy Regulatory Commission a petition for declaratory order that the Commission disclaim jurisdiction over the disposition of PEP's generating facility located near Perryville, Louisiana.

PEP states that a copy of the petition was served upon the Louisiana Public Service Commission, the Arkansas Public Service Commission, the Mississippi Public Service Commission, the New Orleans City Council, and the Public Utility Commission of Texas.

Comment Date: August 2, 2004.

3. Alabama Power Company

[Docket Nos. ER04-664-002]

Take notice that on July 9, 2004, Alabama Power Company made a compliance filing in accordance with the Federal Energy Regulatory Commission's order in Alabama Power Company, 107 FERC ¶ 61,146 (2004).

Comment Date: July 30, 2004.

4. PPL Distributed Generation, LLC

[Docket No. ER04-671-000 and ER04-671-001]

On July 12, 2004, PPL Distributed Generation, LLC (PPL Distributed Generation) submitted a Notice of Withdrawal of its market-based rate application and of its later filed request for extension of time. PPL Distributed Generation requests an effective date of July 26, 2004.

Comment Date: July 22, 2004.

5. Vermont Electric Cooperative, Inc.

[Docket No. ER04-694-002]

Take notice that on July 9, 2004, Vermont Electric Cooperative, Inc. (VEC), submitted a supplement to its March 31, 2004 application for market-based rate authority originally filed with the Commission on March 31, 2004. VEC is requesting such authority, effective January 1, 2003.

Comment Date: July 30, 2004.

6. Southern Company Services, Inc.

[Docket No. ER04-952-000]

Take notice that on July 8, 2004, Southern Company Services, Inc. (SCS), on behalf of Georgia Power Company (GPC), filed with the Commission a clarification of its June 23, 2004 Notice of Cancellation of the Interconnection Agreement between Southern Power Company and GPC, Service Agreement No. 458, under Southern Companies' Open Access Transmission Tariff, Fourth Revised Volume No. 5.

Comment Date: July 29, 2004.

7. PJM Interconnection, L.L.C.

[Docket No. ER04-1000-000]

Take notice that on July 9, 2004, PJM Interconnection, L.L.C. (PJM), submitted for filing an executed first revised second interim interconnection service agreement between PJM and Armstrong Energy Limited Partnership, L.L.L.P. PJM requests a waiver of the Commission's 60-day notice requirement to permit a June 10, 2004 effective date for the Interim ISA.

PJM states that copies of this filing were served upon the parties to the agreement and the state regulatory commissions within the PJM region.

Comment Date: July 30, 2004.

8. Ameren Energy Marketing Co. Central Illinois Public Service Company d/b/a/ AmerenCIPS

[Docket No. ER04-1001-000]

Take notice that on July 9, 2004, Ameren energy Marketing Company (AME) and Central Illinois Public Service Company d/b/a/ AmerenCIPS, (collectively, Ameren Companies) pursuant to section 205 of the Federal Power Act (FPA), 16 U.S.C. 824b, and section 35.13 of the Commission's regulations, 18 CFR 35.13, filed an amendment to an existing electric power sales agreement between them to extend the term of that agreement from December 31, 2004, through December 31, 2006, and to make other minor conforming changes to this agreement. Ameren Companies requests an effective date of September 7, 2004.

Ameren Companies state that copies of this filing have been served on all affected state commissions.

Comment Date: July 30, 2004.

9. Alabama Power Company

[Docket No. ER04-1002-000]

Take notice that on July 9, 2004, Alabama Power Company (Alabama Power) filed an Exhibit F to the Amended and Restated Agreement for Partial Requirements and Complementary Services between Alabama Power and the Alabama Municipal Electric Authority (AMEA) (Alabama Power Rate Schedule No. 168). Alabama Power states that the amendment sets forth its and AMEA's agreement regarding the addition of a new point of connection in accordance with the Amended PR Agreement. An effective date of May 1, 2004 is requested.

Comment Date: July 30, 2004.

10. American Electric Power Service Corporation

[Docket No. ER04-1003-000 and ER04-1007-000]

Take notice that on July 9, 2004, American Electric Power Service Corporation on behalf of Appalachian Power Company, Columbus Southern Power Company, Indiana Michigan Power Company, Kentucky Power Company, Kingsport Power Company, Ohio Power Company, Public Service Company of Oklahoma, Southwestern Electric Power Company, AEP Texas Central Company, AEP Texas North Company and Wheeling Power Company, (collectively AEP) filed revisions to their Open Access Transmission Service Tariff (OATT) that has been designated as the Operating Companies of the American Electric Power System FERC Electric Tariff, Third Revised Volume No. 6.

AEP states that a copy of the transmittal letter has been served on all parties to this proceeding, all customers under the tariff and a copy of the filing has been served on the State public service commissions of Arkansas, Indiana, Kentucky, Louisiana, Michigan, Ohio, Oklahoma, Tennessee, Texas, Virginia and West Virginia.

Comment Date: July 30, 2004.

11. Alpena Power Generation, L.L.C.

[Docket No. ER04-1004-000]

Take notice that on July 9, 2004, Alpena Power Generation, L.L.C. (Alpena Generation), tendered for filing a request for market-based rate authority and a request for waiver of the sixty-day notice requirement. Alpena Generation also requests waiver from the Commission's code of conduct, and waiver of the accounting, reporting and other requirements under parts 41, 101, and 141 of the Commission's regulations.

Comment Date: July 30, 2004.

12. EcoElectrica, L.P.

[Docket No. QF95-328-006]

Take notice that on July 7, 2004, EcoElectrica, L.P. (EcoElectrica) filed an amendment to the application filed April 18, 2004, in compliance with the Letter Order issued July 2, 2004, in Docket No. QF95-328-006.

Comment Date: July 30, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1612 Filed 7-20-04; 8:45 am]

BILLING CODE 6717-01-P